ENVIRONMENTAL PROTECTION AGENCY

40 CFR Part 63

[EPA-HQ-OAR-2005-0155; FRL-8391-01-OAR]

RIN 2060-AV44

National Emission Standards for Hazardous Air Pollutants: National Perchloroethylene Air Emission Standards for Dry Cleaning Facilities Technology Review

Correction

In rule document 2024-31223 beginning on page 1041 in the issue of Tuesday, January 7, 2025, make the following correction:

On page 31223, in the third column, under the heading DATES, in the second line “January 7, 2024” should read “January 7, 2025”.

[FR Doc. C1-2024-31223 Filed 2-18-25; 8:45 am]

BILLING CODE 0099-10-D